NATIONAL SCIENCE FOUNDATION

Sunshine Act Meetings

The National Science Board's Committee on Strategy hereby gives notice of the scheduling of a teleconference for the transaction of National Science Board business pursuant to the NSF Act and the Government in the Sunshine Act.

TIME AND DATE: Tuesday, September 3, 2024, from 2-3 p.m. eastern.

PLACE: This meeting will be via videoconference through the National Science Foundation, 2415 Eisenhower Avenue, Alexandria, VA 22314.

STATUS: Closed.

MATTERS TO BE CONSIDERED: The agenda is: Chair's Opening Remarks; Presentation and discussion of NSF's FY 2026 Budget Submission to the Office of Management and Budget; Committee recommendation to NSB related to NSF's FY 2026 Budget Submission to the Office of Management and Budget.

CONTACT PERSON FOR MORE INFORMATION: Point of contact for this meeting is: Chris Blair, cblair@nsf.gov, 703/292-7000. Meeting information and updates may be found at www.nsf.gov/nsb.

Ann E. Bushmiller,
Senior Counsel to the National Science Board.

[FR Doc. 2024-19780 Filed 8-29-24; 11:15 am]

BILLING CODE 7555-01-P